DEPARTMENT OF AGRICULTURE

Food and Nutrition Service

Submission for OMB Review; Comment Request

March 16, 2016.

The Department of Agriculture has submitted the following information collection requirement(s) to OMB for review and clearance under the Paperwork Reduction Act of 1995, Public Law 104-13. Comments are requested regarding (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 22, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of Nutrition and Activity in Child Care Settings.

OMB Control Number: 0584-NEW.

Summary of Collection: Since good nutrition is a key to proper childhood development and nutrition and physical activity is an important part of childcare, Congress directed the U.S. Department of Agriculture (USDA) to conduct a Study on Nutrition and Wellness Quality in Childcare Settings in Section 223 of the Healthy, Hunger Free Kids Act of 2010 (Public Law 111-296). The objectives set out by Congress encompass four broad topics: (1) Nutritional quality of foods offered, (2) physical activity, (3) sedentary activity, and (4) barriers to and facilitators of nutritional quality, physical activity, and participation by childcare centers and family day care homes in the Child and Adult Care Food Program (CACFP).

Need and Use of the Information: This study will collect a broad range of data from a nationally representative sample of sponsors, directors, food preparers and/or provider staff of childcare centers, family day care home and after-school programs that participate in CACFP and those that do not participate in the program, and from the children and parents of children receiving care from CACFP childcare centers, family day care homes, and after-school programs during 2015-2016. This data will be used to document the quality of meals and snacks offered in childcare facilities, relative to the current Dietary Guidelines for Americans (DGA) which are prepared by USDA and the U.S. Department of Health and Human Services, and the types of activities that might promote or inhibit healthy weight and development. The data will also provide insights into how nutritional quality and physical activity in childcare might be improved. And lastly, the study will collect data on the costs of childcare meals and snacks in relationship to CACFP reimbursements, other funding, and meal quality.

Description of Respondents: Individuals or households, Businesses or other for-profit institutions, Not-for profit institutions, and State, Local, or Tribal Government.

Number of Respondents: 13,050.

Frequency of Responses: Reporting: Annually.

Total Burden Hours: 17,438.

Ruth Brown,
Departmental Information Collection Clearance Officer.

[FR Doc. 2016-06465 Filed 3-22-16; 8:45 am]

BILLING CODE 3410-30-P